DEPARTMENT OF ENERGY

Federal Energy Regulatory Commission

[Project No. 14646-000]

Yedatene Na, LLC; Notice of Preliminary Permit Application Accepted for Filing and Soliciting Comments, Motions To Intervene, and Competing Applications

On November 6, 2014, Yedatene Na, LLC filed an application for a preliminary permit, pursuant to section 4(f) of the Federal Power Act (FPA), proposing to study the feasibility of the Jack River Dam Hydroelectric Project (Jack River Project or project) to be located on the Jack River, near Cantwell in Matanuska-Susitna Borough, Alaska. The sole purpose of a preliminary permit, if issued, is to grant the permit holder priority to file a license application during the permit term. A preliminary permit does not authorize the permit holder to perform any land-disturbing activities or otherwise enter upon lands or waters owned by others without the owners' express permission. The project reservoir utilizes 286 acres of land owned by the Bureau of Land Management.

The proposed project would consist of the following: (1) A 750-foot-long, 250-foot-high dam on the Jack River with a 250-foot-high spillway built into the crest of the dam; (2) an 865-acre reservoir with a storage capacity of 50,700-acre-feet; (3) two 300-foot-long, 4-foot-diameter steel penstocks; (4) a 75-foot long, 125-foot-wide powerhouse with two Francis turbine units rated for 2.1 megawatts (MW) each or 4.2 MW total at 250 feet of net head; (5) a 20-foot-wide, 20-foot-deep, 25-foot-long concrete tailrace emptying into the Jack River; (6) an 8,000-foot-long, 15-kilovolt transmission line tying into the existing substation northwest of the project; and (7) appurtenant facilities.

The estimated annual generation of the Jack River Project would be 23.4 gigawatt-hours.

Applicant Contact: Mr. Brent L. Smith, Manager, Northwest Power Services, Inc., P.O. Box 872316, Wasilla, AK 99687; phone: (907) 414-8223.

FERC Contact: Julia Kolberg; phone: (202) 502-8261.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14646-000.

More information about this project, including a copy of the application, can be viewed or printed on the “eLibrary” link of Commission's Web site at http://www.ferc.gov/docs-filing/elibrary.asp. Enter the docket number (P-14646) in the docket number field to access the document. For assistance, contact FERC Online Support.

Dated: December 2, 2014.
Kimberly D. Bose,
Secretary.

[FR Doc. 2014-28760 Filed 12-8-14; 8:45 am]

BILLING CODE 6717-01-P